DEPARTMENT OF AGRICULTURE

Forest Service

Umpqua National Forest, Douglas County, Oregon; D-Bug Hazard Reduction Timber Sale Project

AGENCY: Forest Service, USDA.

ACTION: Notice of Intent to Prepare an Environmental Impact Statement.

SUMMARY: The USDA Forest Service will prepare an environmental impact statement (EIS) for reducing fuels, improving forest stand conditions, salvaging present and future bark beetle mortality, and creating fuel breaks around the Diamond Lake and Lemolo Lake Wildland Urban Interface (WUI) areas, and along evacuation routes that lead to and from these areas. Fuel loadings have increased due to fire exclusion and an ongoing bark beetle outbreak in both lodgepole and mixed conifer stands throughout the area. This EIS will be prepared under the authority of the Healthy Forest Restoration Act (HFRA). The project proposes variable density commercial thinning on about 3,146 acres of lodgepole pine, leaving between 20-50 trees per acre (TPA), interspersed with 10% of the area with no treatment; commercial thinning from below on about 2,244 acres of mixed conifer stands, leaving 50-200 TPA; overstory removal on 59 acres of lodgepole pine stands, leaving about 20 TPA; non-commercial treatment of fuels using pre-commercial thinning, mastication, whip felling, chipping, piling and burning on about 2,013 acres; treating all activity-created fuels by underburning, crushing, machine piling, masticating, handpile burning, and/or yarding tops attached; using 25 miles of existing unclassified roads to access thinning/treatment areas, then decommissioning about 5 miles that are not used for trails or as the old highway; building 15 miles of new temporary spur roads for access, then decommissioning them after use; road reconstruction and maintenance throughout the planning area; and use of existing rock pits; all acreages and miles are approximate and are refined during sale layout. The project includes amending the 1990 Umpqua National Forest Land and Resource Management Plan (LRMP). The planning area is located approximately 75 miles east of Roseburg, Oregon. The project is expected to be implemented starting in Fiscal Year 2009. The agency gives notice of the full environmental analysis and decision-making process that will occur on the proposal so that interested and affected people may become aware of how they can participate in the process and contribute to the final decision.

DATES: Comments concerning the scope of the analysis must be received by February 5, 2008. The draft environmental impact statement is expected to be available in April or May of 2008 and the final environmental impact statement is expected to be available in June or July of 2008.

ADDRESSES: Send written comments and suggestions concerning this proposal to Clifford J. Dils, Forest Supervisor, Umpqua National Forest, 2900 NW. Stewart Parkway, Roseburg, OR 97470; you may also submit comments electronically to comments-pacificnorthwest-umpqua@fs.fed.us.

FOR FURTHER INFORMATION CONTACT: For information about the proposal, contact Barbara Fontaine, D-Bug Project Manager, phone 541-957-3422, e-mail bfontaine@fs.fed.us, Umpqua National Forest, 2900 NW. Stewart Parkway, Roseburg, OR 97470; or Debbie Anderson, D-Bug Interdisciplinary Team Leader, phone 541-957-3466, e-mail danderson01@fs.fed.us, Umpqua National Forest, 2900 NW. Stewart Parkway, Roseburg, OR 97470. The proposal is also listed on the Forest's Web site at http://www.fs.fed.us/r6/umpqua/projects/projectdocs/d-bug-ts/index.shtml.

SUPPLEMENTARY INFORMATION: The planning area being analyzed in the D-Bug Hazard Reduction Timber Sale Project encompasses almost 40,000 acres, and is bounded by Lemolo Lake to the North, Crater Lake National Park to the South, the Oregon Cascades Recreation Area and the Mt. Thielsen Wilderness to the East, and the Mt. Bailey Inventoried Roadless Area to the West. The planning area includes all or portions of T26S, R5E, Sections 10, 11, 13-15, 23-26, 34-36; T26S, R6E, Sections 16-21, 28-33; T27S, R5E, Sections 1-5, 25, 36; T27S, R6E, Sections 5-8, 17, 20, 29-32; T28S, R5.5E, Sections 4, 9, 16, 18-21, 28-30, 33-35; T28S, R6E, Sections 1, 12, 13, 22-26, 35; and T29S, R5.5E, Sections 2-4.

Purpose and Need for Action

The purpose of the D-Bug Hazard Reduction Timber Sale Project is to lessen the severity and reduce the impacts of both an on-going mountain pine beetle outbreak and existing and anticipated fuel accumulations by the timely commercial harvest and non-commercial treatments of high risk stands in strategic locations. The need for action is focused on four elements:

Element 1: The need for modifying pine beetle habitat conditions in stands containing lodgepole pine to reduce potential infestation by mountain pine beetles.

Element 2: The need to reduce existing and predicted fuel loads in areas identified as high fire hazard within the Diamond and Lemolo Lake wildland-urban interface areas (WUIs) and the evacuation routes from these at risk communities.

Element 3: The need for removing existing dead and eminently dying pine in areas already infested where human use is high in order to protect the recreating public from hazard trees.

Element 4: The need for increasing stand vigor in densely-stocked mixed conifer stands containing older, large ponderosa pine, western white pine, Shasta red fir, and Pacific silver fir in order to improve stand resiliency during future wildfires.

Proposed Action

The proposed action was developed to address the elements of the purpose and need. It would implement recommendations of the Douglas County Community Wildfire Protection Plans for Lemolo and Diamond Lakes to treat hazardous fuels in the WUIs and install fuelbreaks along evacuation routes such as Highways 138, 230, and roads leading away from both the WUIs. Additional fuelbreaks are also included in the proposed action to help slow down a wildfire between the Mt. Thielsen Wilderness and the Lemolo Lake area. In stands containing pine, timely thinning in advance of beetle outbreaks would increase the vigor of the remaining trees as well as the likelihood that they would survive an outbreak when it arrives, thus lessening the fuel accumulation that naturally follows behind pine beetle outbreaks. In stands already infested by mountain pine beetles and located near high use recreation areas, the dead trees would be salvaged to lower safety hazards and fuel accumulations. Finally, reducing stand density will approximate more natural stand conditions potentially allowing older fire-tolerant trees more of a chance to survive future fires.

Specifically the Proposed Action includes the following activities:

• Variable density commercial thinning of 3,146 acres in lodgepole pine stands leaving 20-50 trees per acre (TPA) interspersed with 10% of the area with no treatment, and commercial thinning of 2,244 acres in mixed conifer stands (leaving 50-200 TPA). The thinnings would use ground-based and skyline logging systems in both the matrix and riparian reserve land allocations to generate about 44 million board feet of timber. These commercial thinnings include 620 acres within outer edges of the Mt. Bailey and Thirsty Creek Appendage Inventoried Roadless Areas (IRA's), and 318 acres along the edge of the Oregon Cascades Recreation Area (OCRA). The lodgepole variable density thinning would not generate any individual openings greater than 40 acres in size.

• Overstory removal (leaving about 20 overstory TPA) in two lodgepole pine stands on 59 acres. These overstory removals would not generate any openings greater than 40 acres.

• Non-commercial removal of fuels on about 2,013 acres by pre-commercial thinning, mastication, whip felling, chipping, and piling and burning of slash. This includes treatment on about 344 acres of stands along the edges of the Mt. Bailey and Thirsty Creek Appendage IRA and 15 acres in the OCRA.

• Treating activity-created fuels (slash) on all acres commercially thinned by underburning (195 acres), crushing (976 acres), machine piling (1,223 acres), masticating (1,146 acres), handpile burning (107); yarding tops attached (3,333 acres), or using a combination of the above (663 acres).

• Using about 25 miles of existing spur roads to access thinning areas then decommissioning about 5 miles after use (about 20 miles of these existing roads are now designated as winter use trails, are the remnants of the old North Umpqua Highway, or are used for other access needs and would not be obliterated after use).

• Building a total of about 15.5 miles of new temporary spur roads to provide access for logging machinery and for accessing stands for non-commercial treatments, then obliterating them after use.

• Reconstructing portions of 9 sections of existing system roads (work would occur along 3.3 miles of road) including: Road re-alignment; intersection improvement; road widening; placing or replacing surface rock; reshaping road beds; and hazard tree felling.

• Maintaining about 66 miles of existing roads (approximately 9 miles are currently closed) including: Grading and shaping of existing road surfaces; dust abatement; blading road beds and ditches; hazard tree felling; cleaning/maintaining ditches as needed; opening and re-closing existing closed roads; removing debris from the roadway; and cutting of intruding vegetation along roadsides.

• Utilizing the existing Boundary and Lemolo Dam rock pits (including drilling, blasting, rock crushing and rock hauling), along with several rock disposal sites as the rock source for the road work.

Forest Plan Amendments

The 1990 Umpqua National Forest Land and Resource Management Plan (LRMP) would be amended in the following areas:

1. The LRMP assigned Visual Quality Objectives of Retention and Partial Retention along Highway 138 and Highway 230, and areas surrounding Diamond Lake and Lemolo Lakes. The LRMP would be amended to modify these objectives in the short term in order to meet the purpose and need.

2. The LRMP does not permit timber harvest in Management Areas 1, except in the event of catastrophic damage; there are about 60 acres of commercial treatment planned in MA 1 in order to lower the effects of the on-going mountain pine beetle outbreak and reduce fuels in the vicinity of the Wildland Urban Interface Area. The LRMP would be amended to allow timber harvest to help reduce the fire risk to the area.

3. The LRMP places a size limitation on timber harvest openings (units) that can be created within Management Area 2, the Diamond Lake Recreation Composite. In order to allow for removal of beetle killed trees and to allow for the lodgepole pine to be removed, the LRMP would be amended to allow for timber harvest units greater than ½-acre in size.

4. The LRMP excluded most of the lodgepole pine ecosystem from the timber harvest base because of poor site conditions and low growing capacity. A recent analysis (Blackburn 2007) of stand conditions shows that these sites are growing at a rate that exceeds plan expectations; however, in order to harvest timber for this project, the 1990 LRMP would be amended to allow for timber harvest in the lodgepole pine ecosystem.

5. The LRMP excludes timber harvest around unique habitats for a distance of 150 feet. The LRMP would be amended to allow for fuel reduction treatments adjacent to some unique habitats in order to reduce existing and predicted fuel loads.

Possible Alternatives

The alternatives to be considered include the No Action Alternative, the Proposed Action, and another alternative that may be developed if scoping identifies any issues with the proposed action.

Lead and Cooperating Agencies

The USDA Forest Service, Umpqua National Forest is the lead agency. Douglas County has been granted cooperating agency status.

Responsible Official

Clifford J. Dils, Forest Supervisor of the Umpqua National Forest, is the responsible official for this project. The address for the Umpqua National Forest is 2900 NW Stewart Parkway, Roseburg, OR 97470.

Nature of Decision To Be Made

The Forest Supervisor of the Umpqua National Forest will decide whether to implement the action as proposed, whether to take no action at this time, or whether to implement any alternatives that are proposed. The Forest Supervisor will also decide whether to amend the 1990 Umpqua National Forest Land and Resource Management Plan, if an action alternative is chosen.

Scoping Process

Scoping begins with the publication of this Notice of Intent to prepare an EIS. The project has also been listed in the quarterly schedule of proposed actions (SOPA) since October of 2007. A scoping packet, detailing the proposed action, along with maps of the proposal, was mailed to over 350 interested publics on January 10, 2008. The scoping effort is intended to identify issues, which may lead to the development of alternatives to the proposed action.

Preliminary Issues

At this time, no preliminary issues have been identified.

Comment Requested

This notice of intent initiates the scoping proces which guides the development of the environmental impact statement. In order to help the Forest Service identify any issues related to the proposal, comments are requested by February 5, 2008. Issues that are raised with the proposal may lead to alternative ways to meet the purpose and need of the project.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: January 15, 2008.
Clifford J. Dils,
Forest Supervisor.

.

[FR Doc. E8-982 Filed 1-18-08; 8:45 am]

BILLING CODE 3410-11-P